DEPARTMENT OF ENERGY

Federal Energy Regulatory Commission

[Project No. 1061-103]

Pacific Gas and Electric Company; Notice of Intent To Prepare an Environmental Assessment

On August 24, 2020, Pacific Gas and Electric Company filed an application for a major, new license for the 1.6 megawatts Phoenix Hydroelectric Project (FERC No. 1061). The existing project is located on the South Fork Stanislaus River and in the Tuolumne River Basin, in Tuolumne County, California. The project occupies 26.99 acres of federal land administered by the U.S. Forest Service and 0.59 acres administered by the Bureau of Land Management.

In accordance with the Commission's regulations, on July 2, 2021, Commission staff issued a notice that the project was ready for environmental analysis (REA Notice). Based on the information in the record, including comments filed on the REA Notice, staff does not anticipate that licensing the project would constitute a major federal action significantly affecting the quality of the human environment. Therefore, staff intends to prepare a draft and final Environmental Assessment (EA) on the application to relicense the Phoenix Project.

The EA will be issued and circulated for review by all interested parties. All comments filed on the EA will be analyzed by staff and considered in the Commission's final licensing decision.

The application will be processed according to the following schedule. Revisions to the schedule may be made as appropriate.

¹ The Council on Environmental Quality's (CEQ) regulations under 40 CFR 1501.10(b)(1) require that EAs be completed within 1 year of the federal action agency's decision to prepare an EA. This notice establishes the Commission's intent to prepare a draft and final EA for the Phoenix Project. Therefore, in accordance with CEQ's regulations, the final EA must be issued within 1 year of the issuance date of this notice.

Milestone | Target date
Commission issues draft EA | May 2022.
Comments on draft EA | June 2022.
Commission issues final EA | September 2022 ¹.

Any questions regarding this notice may be directed to Jim Hastreiter at (503) 552-2760 or james.hastreiter@ferc.gov.

Dated: September 23, 2021.
Kimberly D. Bose,
Secretary.

[FR Doc. 2021-21155 Filed 9-28-21; 8:45 am]

BILLING CODE 6717-01-P